DEPARTMENT OF THE INTERIOR

National Park Service

[NPS-WASO-NAGPRA-NPS0022629; PPWOCRADN0-PCU00RP14.R50000]

Notice To Rescind a Notice of Inventory Completion: Texas Archeological Research Laboratory, Austin, TX

AGENCY: National Park Service, Interior.

ACTION: Notice.

SUMMARY: The Texas Archeological Research Laboratory (TARL) is rescinding a Notice of Inventory Completion published in the Federal Register on July 11, 2016.

ADDRESSES: Marybeth Tomka, Head of Collections, Texas Archaeological Research Laboratory, 10100 Burnet Road, PRC Building 5, Austin, TX 78758, telephone (512) 475-6853, email marybeth.tomka@austin.utexas.edu.

SUPPLEMENTARY INFORMATION: Notice was previously given in accordance with the Native American Graves Protection and Repatriation Act (NAGPRA), 25 U.S.C. 3003, of the completion of an inventory of human remains and associated funerary objects under the control of the Texas Archaeological Research Laboratory. The human remains and associated funerary objects were removed from Zapata County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

The Texas Archeological Research Laboratory (TARL) is rescinding a Notice of Inventory Completion published in the Federal Register (81 FR 44893-44896, July 11, 2016). Transfer of control of the items in this correction notice has not occurred.

Correction

In the Federal Register (81 FR 44893-44896, July 11, 2016), all paragraphs are deleted in their entirety.

The Texas Archeological Research Laboratory (TARL) is responsible for notifying the Comanche Nation, Oklahoma, the Kiowa Indian Tribe of Oklahoma, the Mescalero Apache Tribe of the Mescalero Reservation, New Mexico, and the Tonkawa Tribe of Indians of Oklahoma that this notice has been published.

Dated: December 21, 2016.
Melanie O'Brien,
Manager, National NAGPRA Program.

[FR Doc. 2017-00507 Filed 1-11-17; 8:45 am]

BILLING CODE 4312-52-P